DEPARTMENT OF HOMELAND SECURITY

Coast Guard

33 CFR Part 165

[Docket Number USCG-2013-0285]

RIN 1625-AA00, 1625-AA87

Safety and Security Zones, San Juan Captain of the Port Zone

AGENCY: Coast Guard, DHS.

ACTION: Notice of proposed rulemaking; notice of meeting.

SUMMARY: The Coast Guard proposes to modify several aspects of the safety and security zones within the Sector San Juan Captain of the Port Zone. This action is necessary to consolidate, clarify, and otherwise modify safety and security zone regulations to eliminate unnecessary regulations and better meet the safety and security needs of the Puerto Rico and U. S. Virgin Island port communities. This action would modify existing safety zones; consolidate safety and security zones currently found in separate regulations into four regional regulations; and add and remove safety and security zones. Additionally, safety zones governing port closures in the event of a natural and other disasters have been added.

DATES: Comments and related material must be received by the Coast Guard on or before September 12, 2013.

A Public meeting will be held on August 1, 2013 at 9:00 a.m. at USCG Sector San Juan.

ADDRESSES: You may submit comments identified by docket number using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Lieutenant Commander Jose Perez, Sector San Juan Prevention Department, U.S. Coast Guard; telephone (787) 729-2374, email Jose.A.Perez3@uscg.mil. If you have questions on viewing or submitting material to the docket, call Barbara Hairston, Program Manager, Docket Operations, telephone (202) 366-9826.

The address for Sector San Juan is 5 Calle La Puntilla, San Juan, Puerto Rico, 00901.

The address of MSD St. Thomas is 1 King Wharf Waterfront, St. Thomas, VI 00804.

SUPPLEMENTARY INFORMATION:

Table of Acronyms

DHS Department of Homeland Security

FR Federal Register

NPRM Notice of Proposed Rulemaking

MSD Marine Safety Detachment

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number USCG-2013-0285 in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number USCG-2013-0285 in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We plan to hold a public meeting on August 1, 2013 at 9:00 a.m. at USCG Sector San Juan and on August 8, 2013 at 9:00 a.m. at MSD St. Thomas. We plan to post the minutes of this meeting in the docket. For information on facilities or services for individuals with disabilities or to request special assistance at the public meeting, contact the person named in the FOR FURTHER INFORMATION CONTACT section, above.

B. Regulatory History and Information

Between 1998 and 2009 the USCG has published 11 regulations regarding safety and security zones within the Sector San Juan Area of Responsibility (AOR). These 11 regulations are currently: 33 CFR 165.754 Safety Zone: San Juan Harbor, San Juan, PR; 33 CFR 165.755 Safety Zone; Guayanilla, Puerto Rico; 33 CFR 165.757 Safety Zones; Ports of Ponce, Tallaboa, and Guayanilla, Puerto Rico and Limetree Bay, St. Croix, U.S.V.I.; 33 CFR 165.758 Security Zone; San Juan, Puerto Rico; 33 CFR 165.762 Security Zone; St. Thomas, U.S. Virgin Islands; 33 CFR 165.763 Moving and Fixed Security Zone, Port of Fredericksted, Saint Croix, U.S. Virgin Islands; 33 CFR 165.766 Security Zone: HOVENSA Refinery, St. Croix, U.S. Virgin Islands; 33 CFR 165.770 Security Zone: HOVENSA Refinery, St. Croix, U.S. Virgin Islands; 33 CFR 165.771 Safety Zone; Bahia de Ponce, Puerto Rico; 33 CFR 165.776 Security Zone; Coast Guard Base San Juan, San Juan Harbor, Puerto Rico; and 33 CFR 165.778 Security Zone; Port of Mayaguez, Puerto Rico. The regulations as they are currently drafted are repetitive, disorganized, and some are unnecessary. This regulation change will reorganize the current regulations into regional regulations, remove unneeded regulations (e.g. a permanent security zone around an oil terminal), add safety zone regulations regarding port closures in times of natural and other disasters, and safety zones for fireworks displays.

C. Basis and Purpose

The legal basis for the rule is the Coast Guard's authority to establish regulated navigation areas and limited access areas: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

The purpose of the regulation is to reorganize the regulations into four regional areas, harmonize the regulations within the Sector San Juan AOR, remove unnecessary regulations, and add regulations regarding port closures in the event of natural and other disasters and safety zones for firework barges.

D. Discussion of Proposed Rule

The main change of the regulations is the consolidation of 11 existing regulations into four regional regulations and a natural and other disasters safety zone. The consolidated regulation would be published as 33 CFR 165.754 for the North Coast of Puerto Rico; 33 CFR 165.755 for the South Coast of Puerto Rico; 33 CFR 165.757 for St. Thomas; 33 CFR 165.758 for St. Croix; and 33 CFR 165.762 Natural and Other Disasters Safety Zone for Sector San Juan COTP Zone.

Safety and Security Zones; North Coast of Puerto Rico (33 CFR 165.754) would combine the regulations set forth in the current 33 CFR 165.754, 33 CFR 165.758, and 33 CFR 165.776. This new regulation would not alter the security zone for the Coast Guard Base and cruise ships. However, the moving safety zone for Liquefied Hazardous Gas (LHG) would be altered from the existing distance of .5 NM to 100 yards to align with the rest of the LHG safety zones in the AOR, and also it will add a fixed 50 yard safety zone around the vessel at all times while the vessel is moored. Additionally, a safety zone for certain vessels and firework barges would be added, establishing at all times a safety zone around vessels that pose a higher risk of injury to people or property without publishing Temporary Final Rules for each individual event, which often are done with minimal notice to the public.

Safety and Security Zones; South Coast of Puerto Rico (33 CFR 165.755) would combine the regulations set forth in the current 33 CFR 165.755, 33 CFR 165.778, and the parts of 33 CFR 165.757 that regulate Guayanilla, Tallaboa, and Ponce. This new regulation would not alter the security zone for cruise ships. The safety zone for LHG while the vessel is transiting will remain unaltered, however a fixed 50-yard security zone would be added around the vessel at all times while the vessel is moored. Additionally, a safety zone for certain vessels and firework barges would be added, establishing at all times a safety zone around these vessels that pose a higher risk of injury to people or property without necessitating publication of a Temporary Final Rules for each individual event, which often are done with minimal notice to the public.

Safety and Security Zones; St. Croix, USVI (33 CFR 165.757) would combine the regulations set forth in the current 33 CFR 165.763 and the parts of 33 CFR 165.757 that regulate Limetree Bay. This new regulation would not alter the security zone for cruise ships. The safety zone for LHG while the vessel is moving will remain unaltered, however a fixed 50 yard security zone would be added around the vessel at all times while the vessel is moored. Additionally, a safety zone for certain vessels and firework barges would be added, establishing at all times a safety zone around these vessels that pose a higher risk of injury to people or property without necessitating publication of a Temporary Final Rule for each individual event, which are often done with minimal notice to the public.

Safety and Security Zones; St. Thomas, USVI (33 CFR 165.758) would include the regulations set forth in the current 33 CFR 165.762. This new regulation would not alter the security zone for cruise ships. However, a safety zone for certain vessels and firework barges would be added, establishing at all times a safety zone around these vessels that pose a higher risk of injury to people or property without necessitating publication of Temporary Final Rules for each individual event, which are often done with minimal notice to the public. Three safety zones for reoccurring firework displays will be added to this regulation.

Safety Zone; Sector San Juan COTP Zone Natural and Other Disasters Port Closure (33 CFR 165.762) would be added to provide the legal jurisdiction to close a ports affected by natural and other disasters. In the past, temporary regulations regarding port closures have been published after natural and other disasters; however, publishing this notice in a permanent regulation provides better advance notice to the public regarding when port closures should be expected to occur, and would only require publication of a Notice of Enforcement during the storm itself, increasing efficiency and reducing the workload to the Coast Guard. There will be no change in the manner in which the public is notified by the Coast Guard of a port closure.

Disestablishment of the following regulations: the current 33 CFR 165.766 and 33 CFR 165.770. Both of these regulations are for the permanent security zone around HOVENSA refinery; however, this facility is no longer operating as a refinery and is now only an oil terminal. Even if the refinery were to become operational again, disestablishment of the security zone would not stop the refinery from becoming operational again. Similarly, the disestablishment of the current 33 CFR 165.771, the regulation for a safety zone around an LNG vessel transiting into Ponce, PR is unnecessary. This regulation is not needed as only two LNG vessels have entered Ponce, PR in recent history. Also, the proposed regulations concerning “certain vessels” will allow for the establishment of a safety zone if LNG vessels frequent Ponce, PR in the future.

E. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. This regulation is not significant regulatory action because most of the proposed regulations already exist in some form; such as natural and other disasters safety zones as a temporary final rule for each individual natural or other disasters, security zones around cruise ships, safety zones around LHG vessels, and firework safety zones. The regulations that are being added are not expected to have a significant regulatory action due to the infrequency of use for the new moving safety zones around certain vessels. The addition of the safety zone regarding moored LHG vessels should not have a significant effect because it is not anticipated to impede any other commercial traffic. The removal of the LHG safety zone for Ponce would have no effect as it has not been used since it was published.

2. Impact on Small Entities

Under the Regulatory Flexibility Act (5 U.S.C. 601-612), we have considered the impact of this proposed rule on small entities. The Coast Guard certifies under 5 U.S.C. 605(b) that this proposed rule will not have a significant economic impact on a substantial number of small entities.

These safety and security zones would not have a significant economic impact on a substantial number of small entities for the reasons discussed in the Regulatory Evaluation section above.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule will not call for a new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this proposed rule under that Order and determined that this rule does not have implications for Federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires federal agencies to assess the effects of their discretionary regulatory actions. In particular, the Act addresses actions that may result in the expenditure by a state, local, or tribal government, in the aggregate, or by the private sector of $100,000,000 (adjusted for inflation) or more in any one year. Though this proposed rule would not result in such expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This proposed rule involves amending, reorganization, and republication of existing safety and security zones around specific vessels of less than a week in duration and the addition of port closures that would be otherwise published as TFR. This rule will be categorically excluded from further review under paragraph 34(g) of Figure 2-1 of the Commandant Instruction. An environmental analysis checklist supporting this determination and a Categorical Exclusion Determination will be available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Revise § 165.754 to read as follows:

§ 165.754 Safety and Security Zones; North Coast of Puerto Rico

(a) Location. All coordinates referenced use datum: NAD 83. The following areas are established as a safety zones during the specified conditions:

(1) Safety Zone around Liquefied Hazardous Gas (LHG) vessels.

(i) All waters of the Atlantic Ocean within a 100 yard radius surrounding all LHG vessels with product aboard while transiting south of Latitude 18°29.5′ N on approach to or departing from Port of San Juan, Puerto Rico. The safety zone remains in effect until the LHG vessel is moored or anchored.

(ii) All waters of San Juan Harbor within a 50-yard radius surrounding all LHG vessels while the vessel is moored or anchored with product aboard or is transferring LHG within the waters of Port of San Juan, Puerto Rico.

(2) Security Zone around Cruise Ships.

(i) All waters of the Atlantic Ocean within a 50-yard radius surrounding all cruise ships while transiting south of Latitude 18°29.5′ N on approach to or departing from Port of San Juan, Puerto Rico. The safety zone remains in effect until the cruise ship is moored or anchored.

(ii) All waters of San Juan Harbor within a 50-yard radius surrounding all cruise ships while the vessel is moored or anchored within the Port of San Juan, Puerto Rico.

(3) Safety Zone around Certain vessels.

(i) All waters of the Atlantic Ocean within a 100-yard radius surrounding certain vessel while transiting within 1 NM from the port entrance on approach to or departing from the Ports of Fajardo, San Juan, or Arecibo, Puerto Rico. The safety zone remains in effect until the vessel is moored or anchored.

(ii) All waters within a 100 yard radius surrounding certain vessel while the vessel is moored or anchored within the waters of Ports of Fajardo, San Juan, or Arecibo, Puerto Rico.

(4) Security Zone around Coast Guard Base San Juan. All waters of San Juan Harbor encompassed by an imaginary line connecting the following points: starting at Point 1 in position 18°27.65′ N, 066°06.93′ W; thence east to Point 2 in position 18°27.65′ N, 066°06.87′ W; thence south to Point 3 in position 18°27.58′ N, 066°06.93′ W; thence southwest to Point 4 in position 18°27.5′ N, 066°06.98′ W; thence northeast to Point 5 in position 18°27.42′ N, 066°07.12′ W; thence north to Point 6 in position 18°27.77′ N, 066°07.17′ W; thence northwest to Point 7 in position 18°27.77′ N, 066°07.12′ W; and thence following the coastline back to the origin.

(5) Safety Zone around Firework Displays. All waters within the San Juan COTP Zone within a 1,000 foot radius of a firework barge. The Coast Guard realizes that some large scale events, such as those with many participants or spectators, or those that could severely restrict navigation or pose a significant hazard, may still require separate special local regulations or safety zones that address the specific peculiarities of the event. In those situations, the Coast Guard will create special local regulations or safety zones specifically for the event, and those regulations will supersede the proposed regulations in this rule.

(b) Regulations. (1) Under general regulations in § 165.33 of this part, entering, anchoring, mooring or transiting in these zones is prohibited unless authorized by the Coast Guard Captain of the Port of San Juan.

(2) Persons desiring to transit the area of the security zone may contact the Captain of the Port at the Sector San Juan at (787) 289-2041 or via VHF radio on Channel 16 to seek permission to transit the area. If permission is granted, all persons and vessels must comply with the instructions of the Captain of the Port or his designated representative.

(3) Coast Guard Sector San Juan will attempt to notify the maritime community of periods during which these safety and security zones will be in effect by providing advance notice of scheduled arrivals and departures of vessels via a broadcast notice to mariners.

(c) Definitions.

(1) Cruise ship. For the purposes of this section, Cruise ship means a passenger vessel greater than 100 feet in length that is authorized to carry more than 150 passengers for hire, except for a ferry.

(2) Certain vessel. For the purposes of this section, “certain vessel” means any vessel within 3 nautical miles of U.S. Territorial Waters and bound for a port listed in paragraph (a)(3) that is deemed to be in need of a moving safety zone by the Captain of the Port, San Juan for safety reasons. In making this determination, the Captain of the Port considers all relevant safety factors, including but not limited to the presence of unusually harmful or hazardous substances and the risk to population or infrastructure.

(3) Designated representative. For the purposes of this section, designated representative means Coast Guard Patrol Commanders including Coast Guard coxswains, petty officers and other officers operating Coast Guard vessels and federal, state, and local officers designated by or assisting the Captain of the Port San Juan in the enforcement of the security zone.

(4) Vessel. For the purposes of this section, vessel means every description of watercraft or other artificial contrivance used, or capable of being used, as a means of transportation on water, except U.S. Coast Guard or U.S. Naval vessels and servicing pilot and tug boats.

(5) LHG. For the purposes of this section, LHG means all cargos regulated under 33 CFR part 127 to include LNG.

3. Revise § 165.755 to read as follows:

§ 165.755 Safety and Security Zones; South Coast of Puerto Rico

(a) Location. All coordinates referenced use datum: NAD 83. The following areas are established as a safety zones during the specified conditions:

(1) Safety Zone around Liquefied Hazardous Gas (LHG) Vessels.

(i) Port of Tallaboa, Puerto Rico. (A) All waters of the Caribbean Sea within a 100 yard radius surrounding all LHG vessels with product aboard while transiting north of Latitude 17°56.0′ N on approach to or departing from the Port of Tallaboa, Puerto Rico. The safety zone remains in effect until the LHG vessel is moored.

(B) All waters of Bahia de Tallaboa within a 50-yard radius surrounding all LHG vessels while the vessel is moored or anchored with product aboard or is transferring LHG within the Port of Tallaboa, Puerto Rico.

(ii) Port of Guayanilla, Puerto Rico. (A) All waters of the Caribbean Sea within a 100-yard radius surrounding all LHG vessels around with product aboard while transiting north of Latitude 17°57.0′ N in the waters of the Caribbean Sea on approach to or departing from the Port of Guayanilla, Puerto Rico. The safety zone remains in effect until the LHG vessel is moored.

(B) All waters of Bahia de Guayanilla within a 50-yard radius surrounding all LHG vessels while the vessel is moored or anchored with product aboard or is transferring LHG within the Port of Guayanilla, Puerto Rico.

(2) Security Zone around Cruise Ships.

(i) All waters of the Caribbean Sea within a 50 yard radius surrounding all cruise ships while transiting east of Longitude 067°11.5′ W on approach to or departing from Port of Mayaguez, Puerto Rico. The safety zone remains in effect until the cruise ship is moored or anchored.

(ii) All waters of Bahia de Mayaguez within a 50 yard radius surrounding all cruise ships while the vessel is moored or anchored within the Port of Mayaguez, Puerto Rico.

(3) Safety Zone around Certain Vessels.

(i) All waters of the Caribbean Sea within a 100 yard radius surrounding certain vessel while transiting within 1 NM from the port entrance on approach to or departing from the Ports of Yabucoa, Guayanilla, Guayama, Ponce, Tallaboa, Mayaguez, Salinas and Guanica, Puerto Rico. The safety zone remains in effect until the vessel is moored or anchored.

(ii) All waters within a 100 yard radius surrounding certain vessel while the vessel is moored or anchored within the waters of Ports of Yabucoa, Guayanilla, Guayama, Ponce, Tallaboa, Mayaguez, Salinas and Guanica, Puerto Rico.

(4) Safety Zone zone around Firework Displays. All waters with the San Juan COTP Zone within a 1000 foot radius of a firework barge. The Coast Guard realizes that some large scale events, such as those with many participants or spectators, or those that could severely restrict navigation or pose a significant hazard, may still require separate special local regulations or safety zones that address the specific peculiarities of the event. In those situations, the Coast Guard will create special local regulations or safety zones specifically for the event, and those regulations will supersede the proposed regulations in this rule.

(b) Regulations. (1) Under general regulations in § 165.33 of this part, entering, anchoring, mooring or transiting in these zones is prohibited unless authorized by the Coast Guard Captain of the Port of San Juan.

(2) Persons desiring to transit the area of the security zone may contact the Captain of the Port at the Sector San Juan at (787) 289-2041 or via VHF radio on Channel 16 to seek permission to transit the area. If permission is granted, all persons and vessels must comply with the instructions of the Captain of the Port or his designated representative.

(3) Coast Guard Sector San Juan will attempt to notify the maritime community of periods during which these safety and security zones will be in effect by providing advance notice of scheduled arrivals and departures of vessels via a broadcast notice to mariners.

(c) Definitions.

(1) Cruise ship. For the purposes of this section, Cruise ship means a passenger vessel greater than 100 feet in length that is authorized to carry more than 150 passengers for hire, except for a ferry.

(2) Certain vessel. For the purposes of this section, certain vessel means any vessel within the 3 nautical miles of U.S. Territorial Waters and bound for the listed ports in (a)(3) that is deemed to be in need of a moving safety zone by the Captain of the Port, San Juan for safety reasons. In making this determination, the Captain of the Port considers all relevant safety factors, including but not limited to the presence of unusually harmful or hazardous substances and the risk to population or infrastructure.

(3) Designated representative. For the purposes of this section, designated representative means Coast Guard Patrol Commanders including Coast Guard coxswains, petty officers and other officers operating Coast Guard vessels and federal, state, and local officers designated by or assisting the Captain of the Port San Juan in the enforcement of the security zone.

(4) Vessel. For the purposes of this section, vessel means every description of watercraft or other artificial contrivance used, or capable of being used, as a means of transportation on water, except U.S. Coast Guard or U.S. Naval vessels and servicing pilot and tug boats.

(5) LHG. For the purposes of this section, LHG means all cargos regulated under 33 CFR part 127 to include LNG.

(d) Authority. In addition to 33 U.S.C 1231 and 50 U.S.C. 191, the authority for this section includes 33 U.S.C. 1226.

4. Revise § 165.757 to read as follows:

§ 165.757 Safety and Security Zones; St. Croix, USVI.

(a) Location. All coordinates referenced use datum: NAD 83. The following areas are established as a safety zones during the specified conditions:

(1) Safety Zone around Liquefied Hazardous Gas (LHG) Vessels.

(i) All waters of the Caribbean Sea within a 100 yard radius surrounding all LHG vessels with product aboard while transiting north of Latitude 17°39.0′ N on approach to or departing from the Port of Limetree Bay, Saint Croix, U.S. Virgin Islands.

(ii) All waters of Limetree Bay within a 50-yard radius surrounding all LHG vessels while the vessel is docked with product aboard or is transferring LHG within the waters of the Port of Limetree Bay, Saint Croix, U.S. Virgin Islands.

(2) Security Zone around Cruise Ships.

(i) All waters of the Caribbean Sea within a 50 yard radius surrounding all cruise ships while transiting east of Longitude 064°54.5′ W on approach to or departing from Port of Fredericksted, Saint Croix, U.S. Virgin Islands. The safety zone remains in effect until the cruise ship is moored or anchored.

(ii) All waters of the Caribbean Sea within a 50 yard radius surrounding all cruise ships while the vessel is moored or anchored within the Port of Fredericksted, Saint Croix, U.S. Virgin Islands.

(3) Safety Zone around Certain Vessels.

(i) All waters of the Caribbean Sea within a 100 yard radius surrounding certain vessels while transiting within 1 NM from the port entrance on approach to or departing from the Ports of Frederiksted, Limetree Bay, Krause Lagoon, and Christiansted, Saint Croix, U.S. Virgin Islands. The safety zone remains in effect until the vessel is moored or anchored.

(ii) All waters within a 100 yard radius surrounding certain vessels while the vessel is moored or anchored within the waters of Ports of Frederiksted, Limetree Bay, Krause Lagoon, and Christiansted, Saint Croix, U.S. Virgin Islands.

(4) Safety Zone around Firework Displays. All waters within the San Juan COTP Zone within a 1000 foot radius of a firework barge. The Coast Guard realizes that some large scale events, such as those with many participants or spectators, or those that could severely restrict navigation or pose a significant hazard, may still require separate special local regulations or safety zones that address the specific peculiarities of the event. In those situations, the Coast Guard will create special local regulations or safety zones specifically for the event, and those regulations will supersede the proposed regulations in this rule.

(b) Regulations. (1) Under general regulations in § 165.33 of this part, entering, anchoring, mooring or transiting in these zones is prohibited unless authorized by the Coast Guard Captain of the Port of San Juan.

(2) Persons desiring to transit the area of the security zone may contact the Captain of the Port at the Sector San Juan at (787) 289-2041 or via VHF radio on Channel 16 to seek permission to transit the area. If permission is granted, all persons and vessels must comply with the instructions of the Captain of the Port or his designated representative.

(3) Coast Guard Sector San Juan will attempt to notify the maritime community of periods during which these safety and security zones will be in effect by providing advance notice of scheduled arrivals and departures of vessels via a broadcast notice to mariners.

(c) Definition.

(1) Cruise ship. For the purposes of this section, Cruise ship means a passenger vessel greater than 100 feet in length that is authorized to carry more than 150 passengers for hire, except for a ferry.

(2) Certain vessel. For the purposes of this section, certain vessel means any vessel within the 3 nautical mile U.S. Territorial Waters and bound for the listed ports in (a)(3) that is deemed to be in need of a moving safety zone by the Captain of the Port, San Juan for safety reasons. In making this determination, the Captain of the Port considers all relevant safety factors, including but not limited to the presence of unusually harmful or hazardous substances and the risk to population or infrastructure.

(3) Designated representative. For the purposes of this section, designated representative means Coast Guard Patrol Commanders including Coast Guard coxswains, petty officers and other officers operating Coast Guard vessels and federal, state, and local officers designated by or assisting the Captain of the Port San Juan in the enforcement of the security zone.

(4) Vessel. For the purposes of this section, vessel means every description of watercraft or other artificial contrivance used, or capable of being used, as a means of transportation on water, except U.S. Coast Guard or U.S. Naval vessels and servicing pilot and tug boats.

(5) LHG. For the purposes of this section, LHG means all cargos regulated under 33 CFR part 127 to include LNG.

5. Revise § 165.758 to read as follows:

§ 165.758 Safety and Security Zones; St. Thomas, USVI.

(a) Location. All coordinates referenced use datum: NAD 83. The following areas are established as a safety zones during the specified conditions:

(1) Security Zone around Cruise Ships.

(i) All waters of the Caribbean Sea within a 50 yard radius surrounding all cruise ships while transiting north of Latitude 18°18.0′ N on approach to or departing from Port of St. Thomas, Saint Thomas, U.S. Virgin Islands. The safety zone remains in effect until the cruise ship is moored or anchored.

(ii) All waters of St. Thomas Harbor within a 50 yard radius surrounding all cruise ships while the vessel is moored or anchored within the Port of St. Thomas, Saint Thomas, U.S. Virgin Islands.

(2) Safety Zone around Certain Vessels.

(i) All waters of the Caribbean Sea within a 100 yard radius surrounding certain vessel while transiting within 1 NM from the port entrance on approach to or departing from the Ports of Charlotte Amalie, Red Hook and Cruz Bay, Saint Thomas, U.S. Virgin Islands. The safety zone remains in effect until the vessel is moored or anchored.

(ii) All waters within a 100 yard radius surrounding certain vessel while the vessel is moored or anchored within the waters of Ports of Charlotte Amalie, Red Hook and Cruz Bay, Saint Thomas, U.S. Virgin Islands.

(3) Safety Zone around Firework Displays.

(i) St. John: 4th of July Firework Display. All waters of the Cruz Bay within a 200 yards radius centered on the position 18°19.92′ N, 064°48.1′ W on the 4th of July.

(ii) St. Thomas: V. I. Carnival Finale. All waters of St. Thomas Harbor within an 800 foot radius centered on the position 18°20.200′ N, 64°55.200′ W during the week of Carnival.

(iii) St. Thomas: Yatch Haven New Years Eve Celebrations. All waters of St. Thomas Harbor within an 800 foot radius centered on the position 18°20.160′ N, 64°55.492′ W on New Year's Eve.

(iv) All waters within the San Juan COTP Zone within a 1000 foot radius of a firework barge not otherwise specified in this paragraph. The Coast Guard realizes that some large scale events, such as those with many participants or spectators, or those that could severely restrict navigation or pose a significant hazard, may still require separate special local regulations or safety zones that address the specific peculiarities of the event. In those situations, the Coast Guard will create special local regulations or safety zones specifically for the event, and those regulations will supersede the proposed regulations in this rule.

(b) Regulations.

(1) Under general regulations in § 165.33 of this part, entering, anchoring, mooring or transiting in these zones is prohibited unless authorized by the Coast Guard Captain of the Port of San Juan.

(2) Persons desiring to transit the area of the security zone may contact the Captain of the Port at the Sector San Juan at (787) 289-2041 or via VHF radio on Channel 16 to seek permission to transit the area. If permission is granted, all persons and vessels must comply with the instructions of the Captain of the Port or his designated representative.

(3) Coast Guard Sector San Juan will attempt to notify the maritime community of periods during which these safety and security zones will be in effect by providing advance notice of scheduled arrivals and departures of vessels via a broadcast notice to mariners.

(c) Definition.

(1) Cruise ship. For the purposes of this section, Cruise ship means a passenger vessel greater than 100 feet in length that is authorized to carry more than 150 passengers for hire, except for a ferry.

(2) Certain vessel. For the purposes of this section, certain vessel means any vessel within the 3 nautical mile U.S. Territorial Waters and bound for the listed ports in (a)(2) that is deemed to be in need of a moving safety zone by the Captain of the Port San Juan for safety reasons. In making this determination, the Captain of the Port considers all relevant safety factors, including but not limited to the presence of unusually harmful or hazardous substances and the risk to population or infrastructure.

(3) Designated representative. For the purposes of this section, designated representative means Coast Guard Patrol Commanders including Coast Guard coxswains, petty officers and other officers operating Coast Guard vessels and federal, state, and local officers designated by or assisting the Captain of the Port San Juan in the enforcement of the security zone.

(4) Vessel. For the purposes of this section, vessel means every description of watercraft or other artificial contrivance used, or capable of being used, as a means of transportation on water, except U.S. Coast Guard or U.S. Naval vessels and servicing pilot and tug boats.

(5) LHG. For the purposes of this section, LHG means all cargos regulated under 33 CFR part 127 to include LNG.

6. Revise § 165.762 to read as follows:

§ 165.762 Safety Zone; Sector San Juan COTP Zone Natural and Other Disasters Port Closure

(a) Regulated Areas. The following regulated areas are safety zones:

(1) St. Thomas and St. John, USVI. All waters of the Atlantic Ocean and Caribbean Sea surrounding St. Thomas, USVI and St. John, USVI encompassed within an imaginary line connecting the following points: starting at point 1 in position 18°24.380′ N, 65°04.960′ W; thence east to point 2 in position 18°25.162′ N, 64°53.774′ W; thence southeast to point 3 in position 18°22.386′ N, 64°51.302′ W; thence east to point 4 in position 18°22.601′ N, 64°45.061′ W; thence east to point 5 in position 18°21.311′ N, 64°38.799′ W; thence south to point 6 in position 18°18.045′ N, 64°39.087′ W; thence west to point 7 in position 18°17.184′ N, 64°47.265′ W; thence southwest to point 8 in position 18°15.776′ N, 64°53.733′ W; thence west to point 9 in position 18°16.676′ N, 65°06.093′ W; thence north back to the origin.

(2) St. Croix, USVI. All waters of the Caribbean Sea surrounding St. Croix, USVI encompassed within an imaginary line connecting the following points: starting at point 1 in position 17°46.979′ N, 64°55.093′ W; thence east to point 2 in position 17°49.040′ N, 64°34.947′ W; thence southeast to point 3 in position 17°44.176′ N, 64°33.947′ W; thence southwest to point 4 in position 17°39.701′ N, 64°43.763′ W; thence west to point 5 in position 17°38.681′ N, 64°54.846′ W; thence north back to origin.

(3) Culebra, PR. All waters of the Atlantic Ocean surrounding Culebra, PR encompassed within an imaginary line connecting the following points: starting at point 1 in position 18°22.901′ N, 65°22.988′ W; thence east to point 2 in position 18°20.704′ N, 65°12.968′ W; thence southeast to point 3 in position 18°15.416′ N, 65°11.282′ W; thence southwest to point 4 in position 18°14.321′ N, 65°13.228′ W; thence west to point 5 in position 18°19.785′ N, 65°24.721′ W; thence northeast back to origin.

(4) Vieques, PR. All waters of the Caribbean Sea surrounding Vieques, PR encompassed within an imaginary line connecting the following points: starting at point 1 in position 18°05.622′ N, 65°35.782′ W; thence east southeast to point 2 in position 18°03.349′ N, 65°30.569′ W; thence east northeast to point 3 in position 18°07.076′ N, 65°14.739′ W; thence north to point 4 in position 18°10.230′ N, 65°14.970′ W; thence west to point 5 in position 18°11.113′ N, 65°29.510′ W; thence west southwest to point 6 in position 18°09.140′ N, 65°34.452′ W; thence south back to the origin.

(5) Arecibo, PR. All waters of the Atlantic Ocean surrounding Arecibo, PR encompassed within an imaginary line connecting the following points: starting at point 1 in position 18°28.577′ N, 66°44.834′ W; thence north to point 2 in position 18°29.939′ N, 66°44.834′ W; thence east to point 3 in position 18°29.939′ N, 66°41.644′ W; thence south to point 4 in position 18°28.865′ N, 66°41.644′ W; thence following the coastline back to origin.

(6) San Juan, PR. All waters of the Atlantic Ocean surrounding San Juan Harbor, PR encompassed within an imaginary line connecting the following points: starting at point 1 in position 18°28.511′ N, 66°08.370′ W; thence north to point 2 in position 18°29.430′ N, 66°08.370′ W; thence east to point 3 in position 18°29.430′ N, 66°07.503′ W; thence south to point 4 in position 18°28.336′ N, 66°07.503′ W; thence following the coastline back to origin.

(7) Fajardo, PR. All waters of the Atlantic Ocean surrounding Fajardo, PR encompassed within an imaginary line connecting the following points: starting at point 1 in position 18°21.311′ N, 65°36.597′ W; thence east to point 2 in position 18°21.103′ N, 65°36.855′ W; thence south to point 3 in position 18°18.639′ N, 65°36.332′ W; thence west to point 4 in position 18°17.835′ N, 65°37.679′ W; thence following the coastline back to origin.

(8) Yabucoa, PR. All waters of the Caribbean Sea surrounding Yabucoa, PR encompassed within an imaginary line connecting the following points: starting at point 1 in position 18°01.279′ N, 65°49.820′ W; thence east southeast to point 2 in position 18°00.511′ N, 65°48.431′ W; thence northeast to point 3 in position 18°03.181′ N, 65°47.365′ W; thence northwest to point 4 in position 18°03.546′ N, 65°48.108′ W; thence following the coastline back to origin.

(9) Guayama and Salinas, PR. All waters of the Caribbean Sea surrounding Guayama and Salinas, PR encompassed within an imaginary line connecting the following points: starting at point 1 in position 17°56.779′ N, 66°23.514′ W; thence south to point 2 in position 17°54.450′ N, 66°23.514′ W; thence east to point 3 in position 17°54.450′ N, 66°10.832′ W; thence north to point 4 in position 17°56.162′ N, 66°10.832′ W; thence following the coastline back to origin.

(10) Ponce, Guayanilla and Tallaboa, PR. All waters of the Caribbean Sea surrounding Ponce, Guayanilla and Tallaboa, PR encompassed within an imaginary line connecting the following points: starting at point 1 in position 17°57.969′ N, 66°48.489′ W; thence south to point 2 in position 17°56.181′ N, 66°48.489′ W; thence east to point 3 in position 17°56.181′ N, 66°36.833′ W; thence north to point 4 in position 17°57.830′ N, 66°36.833′ W; thence following the coastline back to origin.

(11) Guanica, PR. All waters of the Caribbean Sea surrounding Guanica, PR encompassed within an imaginary line connecting the following points: starting at point 1 in position 17°55.907′ N, 66°55.151′ W; thence south to point 2 in position 17°54.887′ N, 66°54.973′ W; thence east to point 3 in position 17°55.557′ N, 66°52.292′ W; thence north to point 4 in position 17°56.500′ N, 66°52.494′ W; thence following the coastline back to origin.

(12) Mayaguez, PR. All waters of the Caribbean Sea surrounding Mayaguez, PR encompassed within an imaginary line connecting the following points: starting at point 1 in position 18°10.159′ N, 67°10.826′ W; thence west to point 2 in position 18°10.159′ N, 67°12.539′ W; thence north to point 3 in position 18°14.371′ N, 67°12.539′ W; thence east to point 4 in position 18°14.371′ N, 67°10.405′ W; thence following the coastline back to origin.

(b) Definitions.

(1) Designated representative. The term “designated representative” means Coast Guard Patrol Commanders, including Coast Guard coxswains, petty officers, and other officers operating Coast Guard vessels, and federal, state, and local officers designated by or assisting the Captain of the Port San Juan in the enforcement of the regulated area.

(2) Hurricane Port Condition YANKEE. Set when weather advisories indicate that sustained Gale Force winds from a tropical or hurricane force storm are predicted to make landfall at the port within 24 hours.

(3) Hurricane Port Condition ZULU. Set when weather advisories indicate that sustained Gale Force winds from a tropical or hurricane force storm are predicted to make landfall at the port within 12 hours.

(c) Regulations.

(1) Hurricane Port Condition YANKEE. All inbound oceangoing commercial vessel traffic over 200GT are prohibited from entering any of the 11 regulated areas designated as being in Port Condition YANKEE within the COTP Zone San Juan; within 24 hours of anticipated landfall of gale force winds (39 mph) from a tropical- or hurricane-force storm; or upon the Coast Guard setting Port Condition YANKEE for inbound ocean going commercial vessel traffic over 200GT. Oceangoing commercial vessel traffic outbound will be authorized to transit through the safety zone until Port Condition ZULU.

(2) Hurricane Port Condition ZULU. All oceangoing commercial vessel traffic over 200GT are prohibited from transiting or remaining in any of the 11 regulated areas designated as being in Port Condition Zulu within COTP San Juan within 12 hours of anticipated landfall of a tropical storm or hurricane; or upon the Coast Guard setting of Port Condition ZULU, unless written permission is obtained from the Captain of the Port.

(3) Emergency Closure for Other Disasters. Any natural or other disasters that are anticipated to effect the COTP San Juan AOR will result in the prohibition of commercial vessel traffic transiting or remaining in any of the 11 regulated areas predicted to be effected as designated by the COTP San Juan = .

(4) Pursuant to the general regulations in § 165.33 of this part, entering, anchoring, mooring or transiting in the regulated areas enacted above in paragraphs (c)(1) and (c)(2) is prohibited unless authorized by the Coast Guard Captain of the Port of San Juan.

(5) Persons desiring to transit the area of the safety zone may contact the Captain of the Port at the Sector San Juan at (787) 289-2041 or via VHF radio on Channel 16 to seek permission to transit the area. If permission is granted, all persons and vessels must comply with the instructions of the Captain of the Port or his designated representative.

(6) Coast Guard Sector San Juan will attempt to notify the maritime community of periods during which these safety zones will be in effect by via a broadcast notice to mariners.

§§ 165.763, § 165.766, § 165.770, § 165.771, § 165.776, and § 165.778 [Removed and Reserved]

7. Remove and reserve §§ 165.763, 165.766, 165.770, 165.771, 165.776 and 165.778.

Dated: May 5, 2013.
D.W. Pearson,
Captain, U.S. Coast Guard, Captain of the Port San Juan.

[FR Doc. 2013-14077 Filed 6-13-13; 8:45 am]

BILLING CODE 9110-04-P